DEPARTMENT OF COMMERCE

National Institute of Standards and Technology

NIST Designation of Cannon Instrument Company as the Responsible Organization for U.S. National Standards for Certified Liquid Viscosity Reference Standards for Purposes of the CIPM MRA

AGENCY: National Institute of Standards and Technology, Commerce.

ACTION: Notice.

SUMMARY: The National Institute of Standards and Technology (NIST), as the National Metrology Institute (NMI) of the U.S., is signatory to the Mutual Recognition Arrangement (MRA) of the Comité International des Poids et Mesures (CIPM). Section 6.1 of the MRA provides for cases in which an NMI may designate a laboratory other than itself to participate in CIPM key comparisons on behalf of its nation and to be responsible for disseminating the national measurement standards relevant to that particular measurand. This notice announces that NIST has designated the Cannon Instrument Company (State College, PA) pursuant to the MRA for the measurements of viscosity until January 1, 2013.

DATES: NIST's designation of the Cannon Instrument Company for the measurements of viscosity will expire on January 1, 2013. NIST will consider comments received by that date.

ADDRESSES: Comments regarding NIST's designation of Cannon may be sent to Dr. James Olthoff, National Institute of Standards and Technology, Deputy Director for Measurement Services, Physical Measurement Laboratory, 100 Bureau Drive, Gaithersburg, MD 20899-8100, or by telephone (301) 975-2220, or by e-mail at james.olthoff@nist.gov.

FOR FURTHER INFORMATION CONTACT: Dr. James Olthoff, National Institute of Standards and Technology, Deputy Director for Measurement Services, Physical Measurement Laboratory, 100 Bureau Drive, Gaithersburg, MD 20899-8100, or by telephone (301) 975-2220, or by e-mail at james.olthoff@nist.gov.

SUPPLEMENTARY INFORMATION: The MRA established by the CIPM under the authority of the Metre Convention has the following objectives:

• To establish the degree of equivalence of national measurement standards maintained by NMIs;

• To provide for the mutual recognition of Calibration and Measurement Capability (CMCs) issued by NMIs;

• Thereby to provide governments and other parties with a secure technical foundation for wider agreements related to international trade, commerce, and regulatory affairs.

The process established to support these objectives includes:

• Comparisons of measurement capabilities of participating NMIs and Designated Institutes (DIs), either through CIPM or Regional Metrology Organizations (RMOs) Key Comparisons (KCs); and

• Quality systems supporting the continued validity and recognition of CMCs in order to establish mutual confidence in measurements performed by NMIs or their DIs.

Signatories to the MRA, which include the U.S., provide information on their nation's calibration and measurement capabilities to the International Bureau of Weights and Measures (BIPM), which publishes these in a database for use by the international community. The results of key or supplementary comparisons provide quantitative demonstration of the degree of equivalence among participating NMIs and DIs. Such demonstrations provide quantitative evidence of the claims constituted by CMCs.

NIST may designate for recognition by the CIPM another U.S. institution that is willing and has the capability to discharge the responsibilities for a specific measurement parameter or parameter range under the terms of the MRA. In designating an institution, an NMI should consider:

• Whether the institution is impartial;

• Whether the institution offers calibration or other appropriate services in the field to all customers that may request such services;

• Whether the institution is prepared to share results of comparisons and internal processes that relate for example to equipment used, environmental conditions, laboratory staff, technical procedures, etc. to appropriate experts in Consultative Committees and/or RMOs technical committees; and

• Whether the institution is prepared to provide information on the processes that have been set up for review of Quality Systems and on-site peer review visits.

An institution designated by NIST to serve as a U.S. DI will:

• Participate, in partnership with NIST, in activities of the CIPM MRA and be bound by the requirements of the MRA under the same conditions under which NIST itself participates in such efforts;

• Provide the U.S. national measurement standards for a specific measurand;

• Disseminate standards for that measurand to U.S. industry, government, and academia.

Cannon Instrument Company of State College, Pennsylvania has served as the U.S. DI for viscosity measurements since 2003. After considering the criteria listed above, NIST has designated Cannon Instrument Company as the U.S. DI for viscosity until January 1, 2013.

Dated: June 1, 2011.
Charles H. Romine,
Acting Associate Director for Laboratory Programs.

[FR Doc. 2011-14434 Filed 6-10-11; 8:45 am]

BILLING CODE 3510-13-P